DEPARTMENT OF HEALTH AND HUMAN SERVICES

Centers for Disease Control and Prevention

Advisory Committee on Immunization Practices (ACIP); Notice of Charter Amendment; Correction

Notice is hereby given of a change in the filing date of the Advisory Committee on Immunization Practices (ACIP); Notice of Charter Amendment which was published in the Federal Register on December 28, 2018 Volume 82, Number 248, page 61573.

The amended filing date should read as follows: November 9, 2017.

FOR FURTHER INFORMATION CONTACT: Stephanie Thomas, ACIP Committee Management Specialist, CDC, NCIRD, email ACIP@cdc.gov.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2018-01969 Filed 1-31-18; 8:45 am]

BILLING CODE 4163-18-P